DEPARTMENT OF COMMERCE

National Oceanic and Atmospheric Administration

RIN 0648-XJ92

Permanent Advisory Committee to the U.S. National Section to the Western and Central Pacific Fisheries Commission (WCPFC); Meeting Announcement

AGENCY: National Marine Fisheries Service (NMFS), National Oceanic and Atmospheric Administration (NOAA), Commerce.

ACTION: Notice of public meeting.

SUMMARY: NMFS announces a meeting of the Permanent Advisory Committee to the U.S. National Section to the WCPFC from 17-19 September, 2008, in Honolulu, Hawaii. Meeting topics are provided under the SUPPLEMENTARY INFORMATION section of this notice.

DATES: The meeting of the Permanent Advisory Committee will be held on September 17-19, 2008, from 8:30 a.m. to 4:30 p.m. (or until business is concluded), Hawaii Standard Time.

ADDRESSES: The meeting will be held at the Hilton Hawaiian Village in the Sea Pearl Meeting Room, 2005 Kalia Road, Honolulu, HI 96814.

FOR FURTHER INFORMATION CONTACT: Rhea Moss at 808-944-2161 (voice) or 808-973-2941 (fax).

SUPPLEMENTARY INFORMATION: In accordance with the Western and Central Pacific Fisheries Convention Implementation Act, the Secretary of Commerce has appointed 20 members to the WCPFC Permanent Advisory Committee. Four additional members are mandated by the Western and Central Pacific Fisheries Convention Implementation Act, who are (1) the chair of the Western Pacific Fishery Management Council's Advisory Committee or the chair's designee; and (2) officials of the fisheries management authorities of American Samoa, Guam, and the Northern Mariana Islands (or their designees). The Committee is established to support the work of the U.S. National Section to the WCPFC in an advisory capacity with respect to U.S. participation in the WCPFC. NMFS, Pacific Islands Region, provides administrative and technical support to the Committee.

As this is the first meeting of the Permanent Advisory Committee, it will set its agenda and consider its organization, prescribe its practices and procedures, as well as elect a chairperson.

The Permanent Advisory Committee will also receive information on: (1) 2006 and 2007 WCPFC activities; (2) status of the stocks and fisheries in 2006 and 2007; (3) issues related to the development of conservation and management measures for bigeye and yellowfin tuna and other species for 2008 and beyond; (4) implementation of the WCPFC's Regional Observer Programme and Vessel Monitoring System and other compliance mechanisms; (5) issues related to the impacts of fishing on non-target, associated and dependent species, such as sea turtles, seabirds and sharks; and (6) other issues, as necessary.

Special Accommodations

The meeting location is physically accessible to people with disabilities. Requests for sign language interpretation or other auxiliary aids should be directed to Rhea Moss, NMFS, 808-944-2161(voice) or 808-973-2941 (fax), at least 7 days prior to the meeting date.

Authority: P.L. 109-479, Sec. 501, et seq.

Dated: August 28, 2008.
Emily H. Menashes,
Acting Director, Office of Sustainable Fisheries, National Marine Fisheries Service.

[FR Doc. E8-20407 Filed 8-28-08; 4:15 pm]

BILLING CODE 3510-22-S